DEPARTMENT OF DEFENSE

Department of the Army

[Docket ID: USA-2023-HQ-0012]

Proposed Collection; Comment Request

AGENCY: U.S. Army Corps of Engineers (USACE), Department of the Army, Department of Defense (DoD).

ACTION: 60-Day information collection notice.

SUMMARY: In compliance with the Paperwork Reduction Act of 1995, the U.S. Army Corps of Engineers announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 13, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to U.S. Army Corps of Engineers, 441 G Street NW, Washington, DC 20314-1000, ATTN: Ms. Kathryn Nevins, or call 703-428-6440.

SUPPLEMENTARY INFORMATION:

Title; Associated Form; and OMB Number: Parks and Recreation Comment System (PARCS); OMB Control Number 0710-PARC.

Needs and Uses: The Parks and Recreation Comment System (PARCS) is intended to be a supplemental instrument to the mandatory customer comment cards which can be utilized not only during the optional years but would be available anytime the public would like to submit comments, questions, or concerns about the conditions at the project. PARCS is an online tool unlike the current comment cards and would reduce the use of printed materials. Rather than seeking to gauge overall visitor satisfaction, this tool is intended to collect impromptu feedback from visitors with a limited scope. Each response is expected to relate to one specific issue, essentially supplementing other issue reporting methods such as phone calls and emails. In response to Executive Order 12862, Setting Customer Service Standards, issued on 11 September 1993, the Corps of Engineers initiated development of a comment card program for monitoring visitor satisfaction at Corps of Engineers lakes and projects. E.O. 12862 asks agencies to establish customer service standards and “survey customers to determine . . . their level of satisfaction with existing services.” This enterprise program allows for the uniform collection of customer feedback from visitors to USACE parks and visitor centers. In 2005, the program was expanded to obtain consistent information across water resources projects with public recreation areas requiring mandatory utilization by projects in a 3-year cycle beginning in 2010.

Affected Public: Individuals or Households.

Annual Burden Hours: 100.

Number of Respondents: 1,200.

Responses per Respondent: 1.

Annual Responses: 1,200.

Average Burden per Response: 5 minutes.

Frequency: On occasion.

Dated: September 5, 2023.
Aaron T. Siegel,
Alternate OSD Federal Register Liaison Officer, Department of Defense.

[FR Doc. 2023-19835 Filed 9-13-23; 8:45 am]

BILLING CODE 5001-06-P